DEPARTMENT OF THE INTERIOR

Fish and Wildlife Service

[FWS-R9-EA-2012-N150; FF09D00000-FXGO1664091HCC05D-123]

Wildlife and Hunting Heritage Conservation Council

AGENCY: Fish and Wildlife Service, Interior.

ACTION: Notice of teleconference.

SUMMARY: We, the U.S. Fish and Wildlife Service, announce a public teleconference of the Wildlife and Hunting Heritage Conservation Council (Council).

DATES: Teleconference: Thursday, July 19th, 2012, from 3:30 p.m. to 5 p.m. (Eastern daylight time). For deadlines and directions on registering to listen to the teleconference, submitting written material, and giving an oral presentation, please see “Public Input” under SUPPLEMENTARY INFORMATION.

FOR FURTHER INFORMATION CONTACT: Joshua Winchell, Council Coordinator, 4401 North Fairfax Drive, Mailstop 3103-AEA, Arlington, VA 22203; telephone (703) 358-2639; fax (703) 358-2548; or email joshua_winchell@fws.gov.

SUPPLEMENTARY INFORMATION: In accordance with the requirements of the Federal Advisory Committee Act, 5 U.S.C. App., we announce that Wildlife and Hunting Heritage Conservation Council will hold a teleconference.

Background

Formed in February 2010, the Council provides advice about wildlife and habitat conservation endeavors that:

1. Benefit wildlife resources;

2. Encourage partnership among the public, the sporting conservation organizations, the states, Native American tribes, and the Federal Government; and

3. Benefit recreational hunting.

The Council advises the Secretary of the Interior and the Secretary of Agriculture, reporting through the Director, U.S. Fish and Wildlife Service (Service), in consultation with the Director, Bureau of Land Management (BLM); Director, National Park Service (NPS); Chief, Forest Service (USFS); Chief, Natural Resources Service (NRCS); and Administrator, Farm Services Agency (FSA). The Council's duties are strictly advisory and consist of, but are not limited to, providing recommendations for:

1. Implementing the Recreational Hunting and Wildlife Resource Conservation Plan—A Ten-Year Plan for Implementation;

2. Increasing public awareness of and support for the Wildlife Restoration Program;

3. Fostering wildlife and habitat conservation and ethics in hunting and shooting sports recreation;

4. Stimulating sportsmen and women's participation in conservation and management of wildlife and habitat resources through outreach and education;

5. Fostering communication and coordination among State, tribal, and Federal governments; industry; hunting and shooting sportsmen and women; wildlife and habitat conservation and management organizations; and the public;

6. Providing appropriate access to Federal lands for recreational shooting and hunting;

7. Providing recommendations to improve implementation of Federal conservation programs that benefit wildlife, hunting, and outdoor recreation on private lands; and

8. When requested by the Designated Federal Officer in consultation with the Council Chairperson, performing a variety of assessments or reviews of policies, programs, and efforts through the Council's designated subcommittees or workgroups.

Background information on the Council is available at http://www.fws.gov/whhcc.

Meeting Agenda

The Wildlife and Hunting Heritage Conservation Council will consider a letter to the Secretaries of Agriculture and the Interior that encourages them to continue to engage their departments in the Environmental Protection Agency watershed analysis regarding potential impacts of large-scale mining in the Bristol Bay Region of Alaska.

The final agenda will be posted on the Internet at http://www.fws.gov/whhcc.

Public Input

If you wish to | You must contact the Council Coordinator (see FOR FURTHER INFORMATION CONTACT) no later than
Listen to the teleconference | July 12, 2012.
Submit written information or questions before the teleconference for the council to consider during the teleconference | July 12, 2012.
Give an oral presentation during the teleconference | July 12, 2012.

Submitting Written Information or Questions

Interested members of the public may submit relevant information or questions for the Council to consider during the teleconference. Written statements must be received by the date listed in “Public Input” under SUPPLEMENTARY INFORMATION, so that the information may be made available to the Council for their consideration prior to this teleconference. Written statements must be supplied to the Council Coordinator in one of the following formats: One hard copy with original signature, and one electronic copy via email (acceptable file formats are Adobe Acrobat PDF, MS Word, MS PowerPoint, or rich text file).

Giving an Oral Presentation

Individuals or groups requesting to make an oral presentation during the teleconference will be limited to 2 minutes per speaker, with no more than a total of 40 minutes for all speakers. Interested parties should contact the Council Coordinator, in writing (preferably via email; see FOR FURTHER INFORMATION CONTACT), to be placed on the public speaker list for this teleconference. To ensure an opportunity to speak during the public comment period of the teleconference, members of the public must register with the Council Coordinator. Registered speakers who wish to expand upon their oral statements, or those who had wished to speak but could not be accommodated on the agenda, may submit written statements to the Council Coordinator up to 30 days subsequent to the teleconference.

Meeting Minutes

Summary minutes of the teleconference will be maintained by the Council Coordinator (see FOR FURTHER INFORMATION CONTACT) and will be available for public inspection within 90 days of the meeting and will be posted on the Council's Web site at http://www.fws.gov/whhcc.

Hannibal Bolton,
Acting Director.

[FR Doc. 2012-15674 Filed 6-26-12; 8:45 am]

BILLING CODE 4310-55-P